DEPARTMENT OF TRANSPORTATION

Federal Aviation Administration

Agency Information Collection Activities: Requests for Comments; Clearance of Renewed Approval of Information Collection: Financial Responsibility for Licensed Launch Activities

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on June 28, 2018. The required information to be collected will be used to determine if licensees or those who have permits have complied with financial responsibility requirements for maximum probable loss determination (MPL) analysis as set forth in FAA regulations. The FAA is responsible for determining MPL required to covered claims by a third party for bodily injury or property damage, and the United States, its agencies, and its contractors and subcontractors for covered property damage or loss, resulting from a Commercial space transportation permitted or licensed activity. The MPL determination forms the basis for financial responsibility requirements issued in a license or permit order.

DATES: Written comments should be submitted by September 27, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Barbara Hall at (940) 594-5913, or by email at: Barbara.L.Hall@faa.gov.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0601.

Title: Financial Responsibility for Licensed Launch Activities.

Form Numbers: There are no FAA forms associated with this collection.

Type of Review: Renewal of an information collection.

Background: The Federal Register Notice with a 60-day comment period soliciting comments on the following collection of information was published on June 28, 2018 (83 FR 30475). The information is collected per 14 CFR part 440 Appendix A. A permit or license applicant who is seeking a permit or license to conduct launch actives is required to provide the FAA information to conduct maximum probable loss determination. The information is collected once based on vehicle configuration, launch site, and flight trajectory that are introduced in the license or permit application. Furthermore, it is a mandatory requirement that all commercial permitted and licensed launch applicants obtain financial coverage for claims by a third party for bodily injury or property damage. FAA is responsible for determining the amount of financial responsibility required using maximum probable loss determination. The financial responsibility must be in place and active for every launch activity. Applicants' launched activity can vary, on average, from once a week to once a year. If there are significant changes to the launch vehicle, launch site, or flight trajectory this could lead to the permitted or licensed applicant providing updated information to the FAA. The FAA will use the updated collected information to revise the financial responsibility results.

Respondents: 10 commercial space launch services providers.

Frequency: Information is collected on occasion.

Estimated Average Burden per Response: 100 hours.

Estimated Total Annual Burden: 1,000 hours.

Issued in Washington, DC, on August 21, 2018.
Robin Darden,
Management Support Specialist, Performance, Policy, and Records Management Branch, ASP-110.

[FR Doc. 2018-18509 Filed 8-27-18; 8:45 am]

BILLING CODE 4910-13-P